ENVIRONMENTAL PROTECTION AGENCY

[FRL-9278-3]

National Environmental Justice Advisory Council; Notification of Public Teleconference Meeting and Public Comment

AGENCY: Environmental Protection Agency.

ACTION: Notification of public teleconference meeting and public comment.

SUMMARY: Pursuant to the Federal Advisory Committee Act (FACA), Public Law 92-463, the U.S. Environmental Protection Agency (EPA) hereby provides notice that the National Environmental Justice Advisory Council (NEJAC) will host a public teleconference meeting on Thursday, March 31, 2011, from 1 p.m. to 4 p.m., Eastern Time. The primary topic of discussion will be EPA's charge to the NEJAC on ensuring long-term engagement of communities in Gulf Coast eco-system restoration efforts. This NEJAC public teleconference meeting is open to the public. There will be a public comment period from 2:30 p.m. to 4 p.m., Eastern Time. Members of the public are encouraged to provide comments relevant to the topic of the meeting. Specifically, comments should respond to how best to:

1. Engage minority, low-income, and tribal/indigenous communities for input into decisions about Gulf Coast restoration plans, particularly for the impacts of such plans on permitting and how best to facilitate the participation of immigrant populations and communities with potential language barriers.

2. Consider indigenous, cultural, and historical concerns during restoration and recovery.

3. Identify any regulatory and policy hurdles that impede, complicate, or discourage sustained community engagement in decisions about restoration and recovery.

For additional information about registering to attend the meeting or to provide public comment, please see the “REGISTRATION” and SUPPLEMENTARY INFORMATION sections below. Due to a limited number of telephone lines, attendance will be on a first-come, first-served basis. There is no fee to attend, but pre-registration is required. Registration for the teleconference meeting closes at 11 a.m., Eastern Time, on Wednesday, March 23, 2011. The deadline to sign-up for public comment, or to submit written public comments, is also March 23, 2011.

DATES: The NEJAC teleconference meeting on March 31, 2011, will begin promptly at 1 p.m., Eastern Time.

Registration: To register by e-mail, send an e-mail to March2011NEJACMeeting@AlwaysPursuingExcellence.com with “Register for the March-NEJAC Teleconference” in the subject line. Please provide your name, organization, city and state, e-mail address, and telephone number for follow-up. To register by Phone or Fax, send a fax (please print) or leave a voice message, with your name, organization, city and state, e-mail address, and telephone number to 877-773-1489. Please specify which meeting you are registering to attend (e.g., NEJAC-March teleconference). Please also state whether you would like to be put on the list to provide public comment, and whether you are submitting written comments before the March 23 deadline. Non-English speaking attendees wishing to arrange for a foreign language interpreter may also make appropriate arrangements using the email address or telephone/fax number.

FOR FURTHER INFORMATION CONTACT: Questions or correspondence concerning the teleconference meeting should be directed to Mr. Aaron Bell, U.S. Environmental Protection Agency, by mail at 1200 Pennsylvania Avenue, NW., (MC2201A), Washington, DC 20460; by telephone at 202-564-1044; via e-mail at Bell.Aaron@epa.gov; or by fax at 202-564-1624. Additional information about the NEJAC and upcoming meetings is available on the following Web site: http://www.epa.gov/environmentaljustice/nejac/meetings.html.

SUPPLEMENTARY INFORMATION: The Charter of the NEJAC states that the advisory committee shall provide independent advice to the Administrator on areas that may include, among other things, “advice about broad, cross-cutting issues related to environmental justice, including environment-related strategic, scientific, technological, regulatory, and economic issues related to environmental justice.”

A. Public Comment: Members of the public who wish to attend the March 31, 2011, public teleconference meeting or to provide public comment must pre-register by 11 a.m. Eastern Time on Wednesday, March 23. Individuals or groups making remarks during the public comment period will be limited to five minutes. To accommodate the large number of people who want to address the NEJAC, only one representative of a community, organization, or group will be allowed to speak. Written comments also can be submitted for the record. The suggested format for individuals providing public comments is as follows: A brief description of the concern and what you want the NEJAC to advise EPA to do; Name of Speaker; Name of Organization/Community; City and State; and E-mail address. Written comments received by 11 a.m. Eastern Time on Wednesday, March 23, 2011, will be included in the materials distributed to the members of the NEJAC prior to the teleconference. Written comments received after that time will be provided to the NEJAC as time allows. All written comments should be sent to EPA's support contractor, APEX Direct, Inc., via e-mail or fax as listed in the FOR FURTHER INFORMATION CONTACT section above.

B. Information about Services for Individuals with Disabilities: For information about access or services for individuals with disabilities, please contact Ms. Estela Rosas, EPA Contractor, APEX Direct, Inc., at 877-773-1489 or via e-mail at March2011NEJACmeeting@AlwaysPursuingExcellence.com. To request special accommodations for a disability, please contact Ms. Rosas at least 7 working days prior to the meeting, to give EPA sufficient time to process your request. All requests should be sent to the address, e-mail, or phone/fax number listed in the “REGISTRATION” section above.

Dated: March 4, 2011.
Victoria Robinson,
Designated Federal Officer, National Environmental Justice Advisory Council.

[FR Doc. 2011-5537 Filed 3-9-11; 8:45 am]

BILLING CODE 6560-50-P